ENVIRONMENTAL PROTECTION AGENCY

40 CFR Part 52

[EPA-R06-OAR-2022-0311; FRL-12123-03-R6]

Air Plan Limited Approval and Limited Disapproval; Texas; Attainment Plan for the Rusk and Panola Counties 2010 Sulfur Dioxide Primary National Ambient Air Quality Standard Nonattainment Area; Finding of Failure To Attain the Primary 2010 One-Hour Sulfur Dioxide Standard for Rusk and Panola Counties; Extension of Comment Period

AGENCY: Environmental Protection Agency (EPA).

ACTION: Proposed rule; extension of comment period.

SUMMARY: The Environmental Protection Agency (EPA) is extending the comment period for the proposed rule “Air Plan Limited Approval and Limited Disapproval; Texas; Attainment Plan for the Rusk and Panola Counties 2010 Sulfur Dioxide Primary National Ambient Air Quality Standard Nonattainment Area; Finding of Failure To Attain the Primary 2010 One-Hour Sulfur Dioxide Standard for Rusk and Panola Counties” that was published on August 2, 2024. The proposal provided for a public comment period ending September 3, 2024. The EPA received two requests from the public to extend this comment period. The EPA is extending the comment period to October 18, 2024.

DATES: The comment period for the proposed rule published August 2, 2024 (89 FR 63117), is extended. Written comments must be received on or before October 18, 2024.

ADDRESSES: Submit your comments, identified by Docket No. EPA-R06-OAR-2022-0311, at https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets.

Docket: The index to the docket for this action is available electronically at www.regulations.gov. While all documents in the docket are listed in the index, some information may not be publicly available due to docket file size restrictions or content (e.g., CBI).

FOR FURTHER INFORMATION CONTACT: Andrew Lee, EPA Region 6 Office, Ozone and Infrastructure Section, 214-665-6750, lee.andrew.c@epa.gov. We encourage the public to submit comments via https://www.regulations.gov. Please call or email the contact listed above if you need alternative access to material indexed but not provided in the docket. Modeling files and other files related to the alternative model review are available upon request. Copyrighted materials are available for review in person at EPA Region 6 office in Dallas.

SUPPLEMENTARY INFORMATION: Throughout this document wherever “we,” “us,” or “our” is used, we mean the EPA.

On August 2, 2024, we published in the Federal Register “Air Plan Limited Approval and Limited Disapproval; Texas; Attainment Plan for the Rusk and Panola Counties 2010 Sulfur Dioxide Primary National Ambient Air Quality Standard Nonattainment Area; Finding of Failure to Attain the Primary 2010 One-Hour Sulfur Dioxide Standard for Rusk and Panola Counties”, where we proposed two actions in the notice. First, EPA proposed to determine that the Rusk-Panola Counties, Texas nonattainment area failed to attain the 2010 1-hour primary sulfur dioxide (SO2) national ambient air quality standard (NAAQS) by the applicable attainment date of January 12, 2022. Second, EPA proposed a limited approval and limited disapproval of the State Implementation Plan (SIP) revision for the Rusk-Panola 2010 1-hour SO2 Primary NAAQS nonattainment area (89 FR 63117). We received two requests for an extension of the comment period and, in response, have decided to allow an additional 45 days for the public to comment. The comment period will now close on October 18, 2024. This action will allow interested persons additional time to prepare and submit comments on the proposed action listed above.

List of Subjects in 40 CFR Part 52

Environmental protection, Air pollution control, Incorporation by reference, Intergovernmental relations, sulfur oxides, Pollution, Reporting and recordkeeping requirements.

Authority: 42 U.S.C. 7401 et seq.

Dated: August 26, 2024.
David Garcia,
Director, Air and Radiation Division, Region 6.

[FR Doc. 2024-19596 Filed 8-29-24; 8:45 am]

BILLING CODE 6560-50-P